DEPARTMENT OF ENERGY

Federal Energy Regulatory Commission

[Docket No. EG00-185-000, et al.]

FPL Energy Cape, LLC, et al.; Electric Rate and Corporate Regulation Filings

July 3, 2000.

Take notice that the following filings have been made with the Commission:

1. FPL Energy Cape, LLC

[Docket No. EG00-185-000]

Take notice that on June 28, 2000, FPL Energy Cape, LLC, 100 Middle Street, Portland Maine 04101, filed with the Federal Energy Regulatory Commission an application for determination of exempt wholesale generator status pursuant to Part 365 of the Commission's regulations.

FPL Energy Cape, LLC, a Delaware limited liability company proposes to engage in the business of owning and operating the Cape Station, consisting of two combustion turbine units in South Portland, Maine. The Maine Public Utilities Commission has found that allowing these facilities to be eligible facilities will benefit consumers, is in the public interest and does not violate state law. Central Maine Power Company, Docket No. 98-058, Nov. 25, 1998. The applicant seeks a determination of its exempt wholesale generator status. All electric energy sold by the applicant will be sold exclusively at wholesale.

Comment date: July 24, 2000, in accordance with Standard Paragraph E at the end of this notice. The Commission will limit its consideration of comments to those that concern the adequacy or accuracy of the application.

2. Automated Power Exchange, Inc.

[Docket No. ER00-1439-002]

Take notice that on June 29, 2000, Automated Power Exchange, Inc. (APX) tendered for filing a revised annual report for 1999.

Comment date: July 20, 2000, in accordance with Standard Paragraph E at the end of this notice.

3. Allegheny Electric Cooperative, Inc., Complainant, v. Pennsylvania Electric Company, doing business as GPU Energy, Respondent.

[Docket No. EL00-88-000]

Take notice that on June 30, 2000, Allegheny Electric Cooperative, Inc. (Allegheny), tendered for filing in the above-referenced docket a complaint under Section 206 of the Federal Power Act against Pennsylvania Electric Company (Penelec) concerning the wholesale rates and charges Penelec collects from Allegheny pursuant to a 1993 Wheeling and Supplemental Power Agreement between Allegheny and Penelec.

Comment date: July 20, 2000, in accordance with Standard Paragraph E at the end of this notice. Answers to the complaint shall also be filed on or before July 20, 2000.

4. Nevada Power Company and Sierra Pacific Power Company

[Docket No. ER00-2015-002; and Docket No. ER00-2018-002]

Take notice that on June 29, 2000, Nevada Power Company (Nevada Power) and Sierra Pacific Power Company (Sierra), tendered for filing pursuant to Section 205 of the Federal Power Act and the Commission's Order in the above-referenced proceeding dated May 31, 2000, nine revised Transition Power Purchase Contracts that will apply to sales from the divested generation to Nevada Power and Sierra. The revisions are intended to comply with the requirement in the Commission's May 31, Order regarding the notice that must be given of the amount of capacity taken under the contracts. With respect to four of the contracts, the revisions also include language designed to implement the Request for Rehearing of the May 31, Order filed by Nevada Power and Sierra.

Comment date: July 20, 2000, in accordance with Standard Paragraph E at the end of this notice.

5. Alcoa Power Generating Inc.

[Docket No. ER00-2972-000]

Take notice that on June 28, 2000, Alcoa Power Generating Inc. (APGI) tendered for a filing service agreement between Aquila Energy Marketing Corporation and APGI under APGI's Market Rate Tariff No. 1 (MR-1). This Tariff was accepted for filing by the Commission on July 13, 1999, in Docket No. ER99-2932-000.

The service agreement with Aquila Energy Marketing Corporation is proposed to be effective June 1, 2000.

Comment date: July 19, 2000, in accordance with Standard Paragraph E at the end of this notice.

6. Southwest Power Pool, Inc.

[Docket No. ER00-2973-000]

Take notice that on June 28, 2000, Southwest Power Pool, Inc. (SPP), on behalf of its members, tendered for filing an executed signature page to the SPP Membership Agreement signed by Southwestern Public Service Company (SPS), and revised sheets to its currently effective tariff in order to reflect a change in the revenue requirements and transmission loss factor for SPS, and a change in the revenue requirement for Western Farmers Electric Cooperative (Western Farmers).

SPP requests an effective date of June 29, 2000 for these changes.

Copies of this filing have been served on all affected state commissions, SPP customers and SPP members.

Comment date: July 19, 2000, in accordance with Standard Paragraph E at the end of this notice.

7. Entergy Services, Inc.

[Docket No. ER00-2974-000]

Take notice that on June 28, 2000, Entergy Services, Inc., on behalf of Entergy Gulf States, Inc., tendered for filing an Interconnection and Operating Agreement with The Goodyear Tire & Rubber Company (Goodyear), and a Generator Imbalance Agreement with Goodyear.

Comment date: July 19, 2000, in accordance with Standard Paragraph E at the end of this notice.

8. Avista Corporation

[Docket No. ER00-2975-000]

Take notice that on June 28, 2000, Avista Corporation (AVA) tendered for filing with the Federal Energy Regulatory Commission (Commission) pursuant to Section 35.12 of the Commission's Regulations, 18 CFR Part 35.12, an executed Net Settlement Agreement with Engage Energy US, L.P.

Avista Corporation (AVA) requests that the Net Settlement Agreement be made effective April 1, 2000.

A copy of this filing has been served upon Engage Energy US, L.P.

Comment date: July 19, 2000, in accordance with Standard Paragraph E at the end of this notice.

9. MidAmerican Energy Company

[Docket No. ER00-2976-000]

Take notice that on June 28, 2000, MidAmerican Energy Company (MidAmerican), 666 Grand Avenue, Suite 2900, Des Moines, Iowa 50309, filed with the Commission a First Amendment to the Power Sales Agreement Between MidAmerican Energy Company and Waverly Light and Power (Amendment), dated February 10, 1999, entered into by MidAmerican and the Municipal Electric Utility of Waverly, Iowa, pursuant to MidAmerican's Service Agreement No. 12 with Waverly, effective February 1, 1997, and pursuant to MidAmerican's Rate Schedule for Power Sales, FERC Electric Tariff, Original Volume No. 5.

MidAmerican requests an effective date of June 29, 2000 for the Amendment and seeks a waiver of the Commission's notice requirement.

MidAmerican has served a copy of the filing on the Municipal Electric Utility of Waverly, Iowa, the Iowa Utilities Board, the Illinois Commerce Commission and the South Dakota Public Utilities Commission.

Comment date: July 19, 2000, in accordance with Standard Paragraph E at the end of this notice.

10. Florida Power & Light Company

[Docket No. ER00-2977-000]

Take notice that on June 28, 2000 Florida Power & Light Company (FPL) filed a Service Agreement with City of Lakeland, Florida for service pursuant to Tariff No. 1 for Sales of Power and Energy by Florida Power & Light and a Service Agreement with Allegheny Energy Supply Company, LLC for service pursuant to FPL's Market Based Rates Tariff.

FPL requests that the Service Agreements be made effective on June 1, 2000.

Comment date: July 19, 2000, in accordance with Standard Paragraph E at the end of this notice.

11. Commonwealth Edison Company

[Docket No. ER00-2978-000]

Take notice that on June 28, 2000, Commonwealth Edison Company (ComEd) tendered for filing an executed service agreement for Central Illinois Light Company (CILCO) under ComEd's FERC Electric Market Based-Rate Schedule for power sales.

ComEd requests and effective date of May 30, 2000 for the service agreement and accordingly seeks waiver of the Commission's notice requirements.

Copies of this filing were served on CILCO.

Comment date: July 19, 2000, in accordance with Standard Paragraph E at the end of this notice.

12. CinCap VIII, LLC and Cinergy Capital & Trading, Inc.

[Docket No. ER00-2979-000]

Take notice that on June 28, 2000, CinCap VIII, LLC (CinCap VIII) and Cinergy Capital & Trading, Inc. (CC&T), tendered for filing a Master Power Purchase and Sale Agreement dated June 1, 2000 under which CinCap VIII and CC&T may sell and purchase electric power pursuant to their respective rate schedules authorizing them to sell power at market-based rates.

Comment date: July 19, 2000, in accordance with Standard Paragraph E at the end of this notice.

13. Commonwealth Edison Company

[Docket No. ER00-2980-000]

Take notice that on June 28, 2000, Commonwealth Edison Company (ComEd) tendered for filing agreements establishing Peoples Energy Services Corporation (Peoples), as a customer under ComEd's FERC Electric Market Based-Rate Schedule for power sales.

ComEd requests an effective date of June 6, 2000 for the agreement and accordingly seeks waiver of the Commission's notice requirements.

Copies of the filing were served on Peoples.

Comment date: July 19, 2000, in accordance with Standard Paragraph E at the end of this notice.

14. New Century Services, Inc.

[Docket No. ER00-2981-000]

Take notice that on June 28, 2000, New Century Services, Inc. (NCS), on behalf of Cheyenne Light, Fuel and Power Company, Public Service Company of Colorado, and Southwestern Public Service Company (SPS) (collectively the NCE Operating Companies), filed amended tariff sheets to the NCE Operating Companies' open-access transmission tariff (NCE Tariff). NCS states that the purpose of the filing is to amend the NCE Tariff to make clear that it does not apply to transmission service on the SPS transmission system that will be available under the Southwest Power Pool open-access transmission tariff.

NCS requests that the revised tariff sheets be made effective on June 29, 2000.

Comment date: July 19, 2000, in accordance with Standard Paragraph E at the end of this notice.

15. Allegheny Energy Service Corporation, on behalf of Allegheny Energy Supply Company LLC

[Docket No. ER00-2983-000]

Take notice that on June 28, 2000, Allegheny Energy Service Corporation on behalf of Allegheny Energy Supply Company, LLC (Allegheny Energy Supply Company) filed Second Revised Service Agreement No. 3 to complete the filing requirement for one (1) new Customer of the Market Rate Tariff under which Allegheny Energy Supply offers generation services. The Service Agreement portion of Second Revised Service Agreement No. 3 will maintain the effective date of November 29, 1999, in accordance with the Commission's Order at Docket No. ER00-907-000.

Allegheny Energy requests a waiver of notice requirements to make the Netting Agreement effective as of May 2, 2000 to DTE Energy Trading, Inc.

Copies of the filing have been provided to the Public Utilities Commission of Ohio, the Pennsylvania Public Utility Commission, the Maryland Public Service Commission, the Virginia State Corporation Commission, the West Virginia Public Service Commission, and all parties of record.

Comment date: July 19, 2000, in accordance with Standard Paragraph E at the end of this notice.

16. Rockingham Power, L.L.C.

[Docket No. ER00-2984-000]

Take notice that on June 29, 2000, Rockingham Power, L.L.C., tendered for filing a long-term power sales agreement between Rockingham Power, L.L.C. and Duke Power, a Division of Duke Energy Corporation, to be in effect as of May 30, 2000.

Comment date: July 20, 2000, in accordance with Standard Paragraph E at the end of this notice.

17. PPL Electric Utilities Corporation

[Docket No. ER00-2985-000]

Take notice that on June 29, 2000, PPL Electric Utilities Corporation d/b/a PPL Utilities (formerly known as PP&L, Inc.), tendered for filing notice of cancellation of the Power Sales Tariff—Market Rates Service Agreement, dated June 15, 1998, between American Electric Power Service Corporation (as agent for the AEP Companies) and PPL Utilities.

PPL Utilities requested an effective date of this cancellation of August 28, 2000.

Notice of the proposed cancellation has been served upon American Electric Power Service Corporation.

Comment date: July 20, 2000, in accordance with Standard Paragraph E at the end of this notice.

18. Western Systems Coordinating Council

[Docket No. ER00-2986-000]

Take notice that on June 29, 2000, the Western Systems Coordinating Council (WSCC), tendered for filing with the Commission an First Amendment to the Reliability Criteria Agreement under the WSCC's Reliability Management System. The amendment modifies the time period under the Disturbance Control Standard to fifteen minutes.

The WSCC requests that the Commission make such amendment effective July 1, 2000.

Comment date: July 20, 2000, in accordance with Standard Paragraph E at the end of this notice.

19. Wisconsin Public Service Corporation

[Docket No. ER00-2987-000]

Take notice that on July 29, 2000, Wisconsin Public Service Corporation (WPSC), tendered for filing an executed Non-Firm Point-to-Point Transmission Service Agreement with The Legacy Group, LLC providing for transmission service under FERC Electric Tariff, Volume No. 1.

WPSC requests that the agreement be accepted for filing and made effective on June 27, 2000.

Comment date: July 20, 2000, in accordance with Standard Paragraph E at the end of this notice.

20. Avista Corp.

[Docket No. ER00-2988-000]

Take notice that on June 29, 2000, Avista Corp. (AVA), tendered for filing with the Federal Energy Regulatory Commission executed Service Agreements for Short-Term Firm and Non-Firm Point-To-Point Transmission Service under AVA's Open Access Transmission Tariff—FERC Electric Tariff, Volume No. 8 with Public Service Company of Colorado.

AVA requests the Service Agreements be given a respective effective date of June 12, 2000.

Comment date: July 20, 2000, in accordance with Standard Paragraph E at the end of this notice.

21. Wisconsin Public Service Corporation

[Docket No. ER00-2989-000]

Take notice that on June 29, 2000, Wisconsin Public Service Corporation (WPSC), tendered for filing an executed Firm Transmission Service Agreement with Public Service of Colorado providing for transmission service under FERC Electric Tariff, Volume No. 1.

WPSC requests that the agreement be accepted for filing and made effective on June 27, 2000.

Comment date: July 20, 2000, in accordance with Standard Paragraph E at the end of this notice.

22. Wisconsin Public Service Corporation

[Docket No. ER00-2990-000]

Take notice that on June 29, 2000, Wisconsin Public Service Corporation (WPSC), tendered for filing an executed Firm Transmission Service Agreement with The Legacy Group, LLC providing for transmission service under FERC Electric Tariff, Volume No. 1.

WPSC requests that the agreement be accepted for filing and made effective June 27, 2000.

Comment date: July 20, 2000, in accordance with Standard Paragraph E at the end of this notice.

23. Wisconsin Electric Power Company

[Docket No. ER00-2991-000]

Take notice that on June 29, 2000, Wisconsin Electric Power Company (Wisconsin Electric), tendered for filing an electric service agreement under its Market Rate Sales Tariff (FERC Electric Tariff, Original Volume No. 8) with Conectiv Energy Supply, Inc.

Wisconsin Electric respectfully requests an effective date of June 16, 2000 to allow for economic transactions.

Copies of the filing have been served on Conectiv Energy Supply, Inc., the Michigan Public Service Commission, and the Public Service Commission of Wisconsin.

Comment date: July 20, 2000, in accordance with Standard Paragraph E at the end of this notice.

24. Wisconsin Electric Power Company

[Docket No. ER00-2992-000]

Take notice that on June 29, 2000, Wisconsin Electric Power Company (Wisconsin Electric), tendered for filing notice that effective June 30, 2000, Service Agreement No. 20, effective August 22, 1995 under Wisconsin Electric Power Company's Coordination Sales Tariff, FERC Electric Tariff First Revised Volume 2 is to be canceled as requested by the customer Utility 2000 Energy Corp. (U2K).

Copies of the filing have been served on U2K Michigan Public Service Commission, and the Public Service Commission of Wisconsin.

Comment date: July 20, 2000, in accordance with Standard Paragraph E at the end of this notice.

25. PJM Interconnection, L.L.C.

[Docket No. ER00-2993-000]

Take notice that on June 29, 2000, PJM Interconnection, L.L.C. (PJM), tendered for filing changes to the PJM Open Access Transmission Tariff (PJM Tariff) and the Amended and Restated Operating Agreement of PJM Interconnection, L.L.C., to permit and accommodate requests to schedule and dispatch generation to meet voltage limits more restrictive than that which PJM determines is required for the reliable operation of transmission system in the PJM control area.

Copies of this filing were served upon all members of PJM and each state electric utility regulatory commission in the PJM control area.

Comment date: July 20, 2000, in accordance with Standard Paragraph E at the end of this notice.

26. PJM Interconnection, L.L.C.

[Docket No. ER00-2994-000]

Take notice that on June 29, 2000, PJM Interconnection, L.L.C. (PJM), tendered for filing changes to the PJM Open Access Transmission Tariff (PJM Tariff) to add a new Section 2.3 setting forth procedures for transmission customers to exercise the transmission reservation priority rights specified in Section 2.2 of the PJM Tariff.

Copies of this filing were served upon all members of PJM and each state electric utility regulatory commission in the PJM control area.

Comment date: July 20, 2000, in accordance with Standard Paragraph E at the end of this notice.

27. PJM Interconnection, L.L.C.

[Docket No. ER00-2995-000]

Take notice that on June 29, 2000, PJM Interconnection, L.L.C. (PJM), tendered for filing an executed service agreement for network integration transmission service under the PJM Open Access Transmission Tariff with Conectiv Energy Supply, Inc. (Conectiv).

Copies of this filing were served upon Conectiv and the state commissions within the PJM control area.

Comment date: July 20, 2000, in accordance with Standard Paragraph E at the end of this notice.

28. Williams Energy Marketing & Trading Company

[Docket No. ER00-2996-000]

Take notice that on June 29, 2000, Williams Energy Marketing & Trading Company (Williams EM&T), tendered for filing pursuant to Section 205 of the Federal Power Act (FPA), 16 U.S.C. § 824d (1994), and Part 35 of the Commission's Regulations, 18 CFR 35, its Fourth Revised FERC Electric Rate Schedule No. 1.

The primary purpose of this filing is to clarify that Williams EM&T has authority to sell wholesale ancillary services to entities located in California that do not self-supply ancillary services to the California Independent System Operator Corporation (CAISO).

Comment date: July 20, 2000, in accordance with Standard Paragraph E at the end of this notice.

29. Sierra Pacific Power Company and Nevada Power Company

[Docket No. ER00-2997-000]

Take notice that on June 29, 2000, Sierra Pacific Power Company (Sierra) and Nevada Power Company (Nevada Power), tendered for filing pursuant to Section 205 of the Federal Power revised tariff sheets applicable to their Joint Open Access Transmission Tariff. Certain of the revisions are intended to revise the charges for Energy Imbalances and to provide for Generation Imbalance Service.

Sierra and Nevada Power request that these changes be made effective as of July 1, 2000. Sierra and Nevada Power also have filed Generation Interconnection Procedures, which they request be made effective September 1, 2000.

Comment date: July 20, 2000, in accordance with Standard Paragraph E at the end of this notice.

Standard Paragraphs

E. Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/ online/rims.htm (call 202-208-2222 for assistance).

David P. Boergers,
Secretary.

[FR Doc. 00-17323 Filed 7-7-00; 8:45 am]

BILLING CODE 6717-01-P